DEPARTMENT OF COMMERCE

International Trade Administration

[A-533-810]

Stainless Steel Bar From India: Preliminary Results of Antidumping Duty Administrative Review; 2015-2016

AGENCY: Enforcement and Compliance, International Trade Administration, Department of Commerce.

SUMMARY: The Department of Commerce (the Department) is conducting an administrative review of the antidumping duty order on stainless steel bar (SSB) from India. The period of review (POR) is February 1, 2015, through January 31, 2016. This review covers two producers or exporters of the subject merchandise: Ambica Steels Limited (Ambica), and Bhansali Bright Bars Pvt. Ltd. (Bhansali). We preliminarily determine that Bhansali had no shipments of subject merchandise during the POR and that Ambica did have an entry of subject merchandise during the POR. Interested parties are invited to comment on these preliminary results.

DATES: Effective March 1, 2017.

FOR FURTHER INFORMATION CONTACT: Joseph Shuler, AD/CVD Operations, Office I, Enforcement and Compliance, International Trade Administration, U.S. Department of Commerce, 1401 Constitution Avenue NW., Washington, DC 20230; telephone: (202) 482-1293.

SUPPLEMENTARY INFORMATION:

Scope of the Order

The merchandise subject to the order is SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

Imports of these products are currently classifiable under subheadings 7222.10.00, 7222.11.00, 7222.19.00, 7222.20.00, 7222.30.00 of the Harmonized Tariff Schedule (HTS). Although the HTS subheadings are provided for convenience and customs purposes, our written description of the scope of the Order is dispositive.

Background

Carpenter Technology Corporation, Crucible Industries LLC, Electralloy, a Division of G,O, Carlson, Inc., North American Stainless, Universal Stainless & Alloy Products, Inc., and Valbruna Slater Stainless, Inc. (the petitioners) timely requested an administrative review of Ambica and Bhansali.¹ The Department published in the Federal Register a notice of initiation of this administrative review of the antidumping duty order on SSB from India for Ambica and Bhansali.²

¹ See Letter from the petitioners to the Department, “Stainless Steel Bar from India: Petitioners' Request for 2015/16 Administrative Review,” dated February 29, 2016.

² See Initiation of Antidumping and Countervailing Duty Administrative Reviews, 81 FR 20324 (April 7, 2016) (Notice of Initiation).

Preliminary Determination of No Shipments (Bhansali)

We received a timely claim from Bhansali reporting that it had no shipments of the subject merchandise to the United States during the POR and requested that the Department rescind the review with respect to it.³ Following Bhansali's claim of no shipments during the POR, the Department placed U.S. Customs and Border Protection (CBP) entry data on the record for comment,⁴ and transmitted a “No-Shipment Inquiry” to CBP regarding Bhansali.⁵ Pursuant to this inquiry, CBP submitted no information contrary to Bhansali's claim. Accordingly, the Department preliminarily determines that Bhansali had no shipments during the POR. Consistent with our practice, we will complete the review and issue appropriate instructions to CBP based on the final results of this review.

³ See Letter from Bhansali to the Department, “Request for No Shipment during the Period of Review (POR),” dated May 4, 2016.

⁴ See Memorandum from Joseph Shuler, International Trade Analyst, to the File regarding, “Release of U.S. Customs and Border Protection (CBP) Entry Data to Interested Parties for Comment,” (CBP Entry Data Release Memo) dated June 29, 2016.

⁵ See CBP message 6264303 dated September 21, 2016.

Preliminary Results of Review (Ambica)

The Department received a timely claim from Ambica reporting that it had “no shipments” of the subject merchandise to the United States during the POR and requested that the Department rescind the review with respect to it.⁶ Following Ambica's claim of no shipments during the POR, the Department placed CBP entry data on the record for comment.⁷ Subsequently, we requested entry documents from CBP for specific shipments attributed to Ambica and placed this information on the record for comment.⁸ The Department preliminarily finds that Ambica had one suspended entry of subject merchandise during this POR for which it had knowledge of its sale to an unaffiliated U.S. customer. However, the Department inadvertently included the sales associated with this 2015/16 entry of subject merchandise in its analysis for the 2014-15 administrative review. Therefore, we have preliminarily determined to apply the importer-specific assessment rate calculated for Ambica in the 2014-15 review to this suspended entry in the instant review. For all other entries of subject merchandise attributed to Ambica during the instant POR, Ambica has reasonably explained that it had no knowledge of these entries into the United States or the sales associated with these entries. Accordingly, these entries will be liquidated at the all-others rate. For additional information and analysis, see the Preliminary Analysis Memorandum.⁹

⁶ See Letter from Ambica to the Department, “Request for No Shipment during the Period of Review (POR),” dated May 4, 2016.

⁷ See CBP Entry Data Release Memo.

⁸ See Memorandum from Joseph Shuler, International Trade Analyst, to the File regarding, “Administrative Review of the Antidumping Duty order on Stainless Steel Bar from India: Placing of Customs and Border Protection (CBP) Entry documents on the Record,” dated December 7, 2016.

⁹ Because of the proprietary nature of the entry documents, see the memorandum from Joseph Shuler, International Trade Analyst to Alex Villanueva, Director, Antidumping and Countervailing Duty Operations Training and Professional Development Unit, “Stainless Steel Bar from India: Preliminary Analysis Memorandum,” (Preliminary Analysis Memorandum) dated concurrently with this notice.

Public Comment

Interested parties may submit case briefs no later than 30 days after the date of publication of the preliminary results.¹⁰ Rebuttal briefs, limited to the issues raised in the case briefs, may be filed no later than five days after the submission of case briefs.¹¹ Parties who submit case briefs or rebuttal briefs in this proceeding are encouraged to submit with each argument: (1) A statement of the issue; (2) a brief summary of the argument; and (3) a table of authorities.¹²

¹⁰ See 19 CFR 351.309(c)(1)(ii); see also 19 CFR 351.303 (for general filing requirements).

¹¹ See 19 CFR 351.309(d)(1).

¹² See 19 CFR 351.309(c)(2) and (d)(2).

All submissions to the Department must be filed electronically using ACCESS, and must also be served on interested parties.¹³ An electronically filed document must be received successfully in its entirety by the Department's electronic records system, ACCESS, by 5:00 p.m. Eastern Time on the date that the document is due.

¹³ See 19 CFR 351.303(f).

Interested parties who wish to request a hearing must submit a written request to the Assistant Secretary for Enforcement and Compliance, U.S. Department of Commerce, using Enforcement and Compliance's ACCESS system within 30 days of publication of this notice.¹⁴ Requests should contain (1) the party's name, address, and telephone number; (2) the number of participants; and (3) a list of the issues to be discussed. Issues raised in the hearing will be limited to those raised in the respective case briefs.

¹⁴ See 19 CFR 351.310(c).

Unless the deadline is extended pursuant to section 751(a)(2)(B)(iv) of the Tariff Act of 1930 (the Act) and 19 CFR 351.213(h)(2), the Department intends to issue the final results of this administrative review, including the results of our analysis of the issues raised by the parties in their case and rebuttal briefs, within 120 days after the publication of these preliminary results, pursuant to section 751(a)(3)(A) of the Act and 19 CFR 351.213(h)(1).

Assessment of Antidumping Duties

For the single suspended AD/CVD entry attributable to Ambica, we will instruct CBP to liquidate this entry at the importer-specific assessment rate calculated in the 2014-15 administrative review.

In accordance with the Department's practice, for entries of subject merchandise during the POR for which Ambica or Bhansali did not know that the merchandise was destined for the United States, we will instruct CBP to liquidate such entries at the all-others rate if there is no rate for the intermediate company(ies) involved in the transaction.

We intend to issue instructions to CBP 15 days after the publication date of the final results of this review.

Cash Deposit Requirements

The following cash deposit requirements will be effective for all shipments of the subject merchandise entered, or withdrawn from warehouse, for consumption on or after the publication date of the final results of this administrative review, as provided by section 751(a)(2)(C) of the Act: (1) The cash deposit rate for Ambica and Bhansali will remain unchanged from the rate assigned to each company in the completed segment for the most recent period for each company; (2) for other producers and exporters covered in a prior segment of the proceeding, the cash deposit rate will continue to be the company-specific rate published for the completed segment for the most recent period of this proceeding in which that producer or exporter participated; (3) if the exporter is not a firm covered in this review, a prior review, or the original investigation, but the producer is, then the cash deposit rate will be the rate established for the completed segment for the most recent period of this proceeding for the producer of subject merchandise; and (4) the cash deposit rate for all other producers or exporters will continue to be 12.45 percent, the all-others rate established in the investigation.¹⁵ These cash deposit requirements, when imposed, shall remain in effect until further notice.

¹⁵ See Notice of Final Determination of Sales at Less Than Fair Value: Stainless Steel Bar from India, 59 FR 66915, 66921 (December 28, 1994).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these preliminary results of administrative review in accordance with sections 751(a)(1) and 777(i)(1) of the Act.

Dated: February 22, 2017.
Carole Showers,
Executive Director, Office of Policy, Policy & Negotiations.

[FR Doc. 2017-03959 Filed 2-28-17; 8:45 am]

BILLING CODE 3510-DS-P